DEPARTMENT OF JUSTICE

Antitrust Division

Notice Pursuant to the National Cooperative Research and Production Act of 1993—Open Mobile Alliance

Notice is hereby given that, on May 2, 2018, pursuant to Section 6(a) of the National Cooperative Research and Production Act of 1993, 15 U.S.C. 4301 et seq. (“the Act”), Open Mobile Alliance (“OMA”) has filed written notifications simultaneously with the Attorney General and the Federal Trade Commission disclosing changes in its membership. The notifications were filed for the purpose of extending the Act's provisions limiting the recovery of antitrust plaintiffs to actual damages under specified circumstances. Specifically, Centero, LLC, Marietta, GA; ControlBEAM Digital Automation, Ontario, CA; Eaton, Cleveland, OH; GreenWave Systems Inc., Irvine, CA; KDDI Corporation, Chiyoda-ku, Tokyo, JAPAN; Lulea University of Technology, Lulea, SWEDEN; Runtime, Redwood City, CA; Silicon Labs Inc., Montreal, Quebec, CANADA; TeleCommunication Systems, Inc., Annapolis, MD; Telecommunications Technology Association, Seongnam-si, Gyeonggi-do, PEOPLE'S REPUBLIC of CHINA; and u-blox AG, Thalwil, SWITZERLAND have been added as parties to this venture.

Also, CallUp Net Ltd., Rosh Haayin, ISRAEL; Kodiak Networks, San Ramon, CA; Microsoft, Redmond, WA; Mind Reader (MR Lab), Hangzhou City, PEOPLE'S REPUBLIC of CHINA; NEC Corporation, Kawasaki, Kanagawa, JAPAN; Pratt and Miller Engineering, New Hudson, MI; and Schneider-Electric, Eybens, FRANCE have withdrawn as parties to this venture.

Further, the following members have changed their names: Mavenir to Mavenir Systems, Inc., Ra'anana, ISRAEL; and Vodafone to Vodafone Group Services Gmbh, Newbury, Berkshire, UNITED KINGDOM.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on September 7, 2017. A notice was published in the Federal Register pursuant to Section 6(b) of the Act on October 10, 2017 (82 FR 47026).

Patricia A. Brink,
Director of Civil Enforcement, Antitrust Division.

[FR Doc. 2018-12067 Filed 6-4-18; 8:45 am]

BILLING CODE 4410-11-P